NUCLEAR REGULATORY COMMISSION

Advisory Committee on Reactor Safeguards Meeting of the ACRS Subcommittee on Reliability and Probabilistic Risk Assessment; Notice of Meeting

The ACRS Subcommittee on Reliability and Probabilistic Risk Assessment will hold a meeting on January 23-24, 2003, Room T-2B3, 11545 Rockville Pike, Rockville, Maryland.

The entire meeting will be open to public attendance.

The agenda for the subject meeting shall be as follows:

Thursday, January 23, 2003—8:30 a.m. Until the Conclusion of Business

The Subcommittee will meet with representatives of the Westinghouse Electric Company and members of the NRC staff to review the Probabilistic Risk Assessment for the AP1000 passive plant design.

Friday, January 24, 2003—8:30 a.m. Until the Conclusion of Business

The Subcommittee will continue its discussion of the AP1000 Probabilistic Risk Assessment, including fire, low power and shutdown, and external event risk assessments.

The purpose of this meeting is to gather information, analyze relevant issues and facts, and formulate proposed positions and actions, as appropriate, for deliberation by the full Committee.

Oral statements may be presented by members of the public with the concurrence of the Subcommittee Chairman; written statements will be accepted and made available to the Committee. Persons desiring to make oral statements should notify one of the staff engineers named below five days prior to the meeting, if possible, so that appropriate arrangements can be made. Electronic recordings will be permitted only during those portions of the meeting that are open to the public.

During the initial portion of the meeting, the Subcommittee, along with any of its consultants who may be present, may exchange preliminary views regarding matters to be considered during the balance of the meeting.

The Subcommittee will then hear presentations by and hold discussions with representatives of the NRC staff, Westinghouse Electric Company, and other interested persons regarding these matters.

Further information regarding topics to be discussed, whether the meeting has been canceled or rescheduled, and the Chairman's ruling on requests for the opportunity to present oral statements and the time allotted therefor can be obtained by contacting the Designated Federal Official, Dr. Medhat M. El-Zeftawy (telephone: 301-415-6889) or Mr. Michael R. Snodderly, Cognizant Staff Engineer, (telephone: 301-415-6927) between 7:30 a.m. and 4:15 p.m. (EST). Persons planning to attend this meeting are urged to contact one of the above named individuals at least two working days prior to the meeting to be advised of any potential changes to the agenda.

Dated: December 20, 2002.
Sher Bahadur,
Associate Director for Technical Support, ACRS/ACNW.

[FR Doc. 02-32695 Filed 12-26-02; 8:45 am]

BILLING CODE 7590-01-P